DEPARTMENT OF ENERGY

Federal Energy Regulatory Commission

[Docket No. CP00-82-000]

Williams Gas Pipelines Central, Inc.; Notice of Application

February 17, 2000.

Take notice that on February 8, 2000, Williams Gas Pipelines Central, Inc. (Williams Central), P.O. Box 3288, Tulsa, Oklahoma, 74101, filed an application pursuant to Section 7(c) of the Natural Gas Act (NGA) for a certificate of public convenience and necessity authorizing the construction of a pipeline expansion project on its Sedalia Line and its Ottawa Crossover facilities. The details of Williams Central's proposal are more fully set forth in the application which is on file with the Commission and open to public inspection. This application may also be viewed on the Internet at http://www.ferc.fed.us/online/rims.htm (call 202-208-2222 for assistance). Any questions regarding this application should be directed to Bart Wherritt, Manager, Certificates & Tariffs at (918) 573-4369, or at Williams Gas Pipelines Central, Inc., P.O. Box 3288, Tulsa, Oklahoma 74101.

Williams Central proposes to construct about 1.5 miles of 24-inch pipeline and related facilities between the Ottawa Crossover and the Ottawa Compressor Station. They also propose to upgrade of two existing compressor units on its Sedalia Line at the Peculiar Compressor Station from 1,350 horsepower each to 2,000 horsepower each, and install new ISO rated 1,590 horsepower turbine set at the Peculiar Compressor Station. Finally, they propose to convert an 800 horsepower compressor unit at Concordia Compressor Station from Natural Gas Policy Act (NGPA) Section 311 authorization to NGA Section 7(c) authorization.

Williams Central says that the additional facilities will allow them to provide incremental firm transportation service to two customers of its East of Ottawa/Sedalia Line system (UtiliCorp United, Inc. (UtiliCorp); and U.S. Energy Services, as agent for Tyson Foods, Inc.). The new service provided will support growing LDC requirements, industrial needs and most significantly, the new Pleasant Hill power plant that will be constructed in Cass County, Missouri. The cost to construct the Ottawa pipeline, upgrade the two existing compressor units, and install the new Solar turbine at the Peculiar station is estimated to be about $9.7 million. The cost associated with the conversion of the 800 horsepower compressor unit at Concordia station is $2.3 million, for a total project cost of $13.0 million.

Williams Central says that beginning on June 1, 2001, they will provide 35,000 Dth/d of firm service year-round to UtiliCorp in both the production and market areas for four years. During the initial four year term, for the 35,000 Dth/d amount, Williams Central and UtiliCorp have agreed that the reservation rate paid by UtiliCorp will not exceed the maximum reservation rate in effect on October 31, 1999. The primary delivery point for this 35,000 Dth/d will be at the interconnection of Williams Central's facilities and a 7.7 mile non-jurisdictional lateral pipeline to be constructed by UtiliCorp from the Pleasant Hill power plant. Williams Central will also provide to UtiliCorp 16,000 Dth/d of firm service during the summer months only for use at the Pleasant Hill plant for four years. The balance of the 86,000 Dth/d Pleasant Hill requirement during the summer months will be provided through capacity release arrangements between UtiliCorp and other third parties that Williams Central says they will help to arrange.

Williams Central will also provide 7,000 Dth/d of firm service under NGPA Section 311 to UtiliCorp during the winter months (October through March) with the primary delivery points at various existing town borders on the East of Ottawa/Sedalia Line system. Williams Central will also provide 2,200 Dth/d of incremental firm service to U.S. Energy/Tyson Foods in the production and market area for five years, with the market area primary delivery point located at the Sedalia town border on the Sedalia system.

William Central also requests approval to rolled-in the costs of the proposed new, converted, and upgraded facilities with existing their facilities' costs in their next general rate case. Williams Central says that impact of such rolled-in treatment will be a decrease in their 100% load factor rates for firm transportation across both their Production and Market areas from $0.3065 per Dth currently to $0.2992 per Dth after the proposed roll-in, a decrease of about 2.4%. They say that this meets the Commission's “threshold requirement” that there be no financial subsidies from existing capacity holders on the pipeline, as set forth in the Commission's Statement of Policy on the Certification of New Interstate Natural Gas Pipeline Facilities, issued in Docket No. PL99-3-000.

Any person desiring to be heard or making any protest the reference to said application should on or before March 9, 2000, file with the Federal Energy Regulatory Commission, 888 First Street, NE, Washington, DC 20426, a motion to intervene or a protest in accordance with the requirements of the Commissions' Rules of Practice and Procedure (18 CFR 385.214 or 385.211) and the Regulations under the Natural Gas Act (18 CFR 157.10). All protests filed with the Commission will be considered by it in determining the appropriate action to taken but will not serve to make the protestants parties to the proceeding. The Commission's rules require that protestors provide copies of their protests to the party or person to whom the protests are directed. Any person wishing to become a party to a proceeding or to participate as a party in any hearing therein must file a motion to intervene in accordance with the Commission's Rules.

A person obtaining intervenor status will be placed on the service list maintained by the Secretary of the Commission and will receive copies of all documents issued by the Commission, filed by the applicant, of filed by all other intervenors. An intervenor can file for rehearing of any Commission order and can petition for court review of any such order. However, an intervenor must serve copies of comments or any other filing it makes with the Commission to every other intervenor in the proceeding, as well as filing an original and 14 copies with the Commission.

A person does not have to intervene, however, in order to have comments considered. A person, instead, may submit two copies of such comments to the Secretary of the Commission. Commenters will be placed on the Commission's environmental mailing list, will receive copies of environmental documents, and will be able to participate in meetings associated with the Commission's environmental review process. Commenters will not be required to serve copies of filed documents on all other parties. However, commenters will not receive copies of all documents filed by other parties or issued by the Commission, and will not have the right to seek rehearing or appeal the Commission's final order to a Federal court. The Commission will consider all comments and concerns equally, whether filed by commenters or those requesting intervenor status.

Take further notice that, pursuant to the authority contained in the subject to the jurisdiction conferred upon the Federal Energy Regulatory Commission by Sections 7 and 15 of the NGA and the Commission's Rules of Practice and Procedure, a hearing will be held without further notice before the Commission or its designee on these applications if no motion to intervene is filed within the time required herein, if the Commission on its own review of the matter finds that a grant of the certificate is required by the public convenience and necessity. If a motion for leave to intervene is timely filed, or if the Commission on its own motion believes that a formal hearing is required, further notice of such hearing will be duly given. Under the procedure herein provided for, unless otherwise advised, it will be unnecessary for Williams Central to appear or be represented at the hearing.

David P. Boergers,
Secretary.

[FR Doc. 00-4324 Filed 2-23-00; 8:45 am]

BILLING CODE 6717-01-M